DEPARTMENT OF TRANSPORTATION

Coast Guard

[USCG 2002-13767]

Collection of Information Under Review by Office of Management and Budget (OMB): OMB Control Numbers 2115-0606, 2115-0077, 2115-0096, 2115-0549, 2115-0603 and 2115-0640

AGENCY: Coast Guard, DOT.

ACTION: Request for comments.

SUMMARY: In compliance with the Paperwork Reduction Act of 1995, the Coast Guard intends to seek the approval of OMB for the renewal of six Information Collection Requests (ICRs). The ICRs comprise (1) National Response Resource Inventory; (2) Facilities Transferring Oil or Hazardous Materials in Bulk—Letter of Intent and Operations Manual; (3) Records on Oil and Hazardous Material Pollution Prevention and Safety: Equivalents, Alternatives, and Exemptions; (4) Requirements for the Use of Liquefied Petroleum Gas and Compressed Natural Gas as Cooking Fuel on Passenger Vessels; (5) Periodic Gauging and Engineering Analyses for Certain Tank Vessels Over 30 Years Old; and (6) Mandatory Ship Reporting System for the Northeast and Southeast Coasts of the United States. Before submitting the ICRs to OMB, the Coast Guard is inviting comments on them as described below.

DATES: Comments must reach the Coast Guard on or before January 21, 2003.

ADDRESSES: To make sure that your comments and related material do not enter the docket (USCG 2002-13767) more than once, please submit them by only one of the following means:

(1) By mail to the Docket Management Facility, U.S. Department of Transportation (DOT), Room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, Room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. DOT, 202-366-5149, for questions on the docket.

Request for Comments

The Coast Guard encourages interested persons to submit comments. Persons submitting comments should include their names and addresses, identify this document by docket number (USCG 2002-13767), and give the reasons for the comments. Please submit all comments and attachments in an unbound format no larger than 8½ by 11 inches, suitable for copying and electronic filing. Persons wanting acknowledgment of receipt of comments should enclose stamped self-addressed postcards or envelopes.

Information Collection Requests

1. Title: National Response Resource Inventory.

OMB Control Number: 2115-0606.

Summary: The information is needed to improve the effectiveness of deploying response equipment in the event of an oil spill. It may also be used in the development of contingency plans.

Need: Section 4202 of the Oil Pollution Act of 1990 (OPA 90) (Pub. L. 101-380) requires the Coast Guard to compile and maintain a comprehensive list of spill-removal equipment. This collection helps fulfill that requirement.

Respondents: Organizations that remove oil spills.

Frequency: On occasion.

Burden Estimate: The estimated burden is 1,224 hours a year.

2. Title: Facilities Transferring Oil or Hazardous Materials in Bulk—Letter of Intent and Operations Manual (OM).

OMB Control Number: 2115-0077.

Summary: A Letter of Intent is a notice to the Coast Guard Captain of the Port that an operator intends to operate a facility that will transfer bulk oil or hazardous materials to or from vessels. An OM establishes procedures to follow when conducting the transfer and in the event of a spill.

Need: 33 U.S.C. 1321 authorizes the Coast Guard to prescribe rules for preventing pollution. 33 CFR 154.110 prescribes the rules for a letter of intent, and 33 CFR 154 subpart B prescribes those for an OM.

Respondents: Operators of facilities that transfer oil or hazardous materials in bulk.

Frequency: On occasion.

Burden Estimate: The estimated burden is 27,819 hours a year.

3. Title: Records on Oil and Hazardous Material Pollution Prevention and Safety: Equivalents, Alternatives, and Exemptions.

OMB Control Number: 2115-0096.

Summary: This information is needed to minimize the number and impact of pollution discharges and accidents occurring during transfer of oil or hazardous materials. It also helps to evaluate proposed alternatives and requests for exemptions.

Need: The information collected under this rule is needed to: (1) Prevent or mitigate the results of an accidental release of liquid hazardous materials being transferred in bulk at waterfront facilities; (2) ensure that facilities and vessels that use vapor-control systems are in compliance with the safety standards developed by the Coast Guard; (3) provide requirements for equipment and operations by facilities and vessels that transfer oil or hazardous materials in bulk to or from vessels with a capacity of 250 or more barrels; and (4) provide procedures for operators of vessels or facilities who request exemption or partial exemption from the requirements of the rules for preventing pollution.

Respondents: Operators of facilities and vessels transferring oil and hazardous materials in bulk.

Frequency: On occasion.

Burden Estimate: The estimated burden is 1,440 hours a year.

4. Title: Requirements for the Use of Liquefied Petroleum Gas and Compressed Natural Gas as Cooking Fuel on Passenger Vessels.

OMB Control Number: 2115-0549.

Summary: The collection of information requires passenger vessels to have posted two placards that contain safety and operating instructions on the use of cooking appliances that employ liquefied gas or compressed natural gas.

Need: 46 U.S.C. 3306(a)(6) authorizes the Coast Guard to prescribe rules for the use of vessel stores of a dangerous nature. These rules cover both uninspected and inspected passenger vessels.

Respondents: Owners and operators of passenger vessels.

Frequency: On occasion.

Burden Estimate: The estimated burden is 2,680 hours a year.

5. Title: Periodic Gauging and Engineering Analyses for Certain Tank Vessels Over 30 Years Old.

OMB Control Number: 2115-0603.

Summary: OPA 1990 requires the issuance of rules for the structural integrity of tank vessels, including periodic gauging of the plating thickness of tank vessels over 30 years old. This also helps to verify the structural integrity of older such vessels.

Need: 46 U.S.C. 3703 authorizes the Coast Guard to prescribe rules for tank vessels, including rules on design, construction, alteration, repair, and maintenance. 46 CFR 31.10-21a prescribes those for periodic gauging and engineering analyses of certain tank vessels over 30 years old.

Respondents: Owners and operators of certain tank vessels.

Frequency: Every 5 years.

Burden Estimate: The estimated burden is 13,688 hours a year.

6. Title: Mandatory Ship Reporting System for the Northeast and Southeast Coasts of the United States.

OMB Control Number: 2115-0640.

Summary: The information is needed to reduce the number of ship collisions with endangered northern right whales. The rules establish two mandatory ship-reporting systems off the northeast and southeast coasts of the United States.

Need: The collection involves ships' reporting by radio to a shore-based authority when entering the areas covered by the reporting system. The ships will, in return, receive information to reduce the likelihood of collisions between themselves and northern right whales—an endangered species—in the areas established with critical-habitat designation.

Respondents: Operators of certain vessels.

Frequency: On occasion.

Burden Estimate: The estimated burden is 88 hours a year.

Dated: November 7, 2002.
C.I. Pearson,
Director of Information and Technology.

[FR Doc. 02-29324 Filed 11-18-02; 8:45 am]

BILLING CODE 4910-15-P